DEPARTMENT OF COMMERCE

National Oceanic and Atmospheric Administration

Agency Information Collection Activities; Submission to the Office of Management and Budget (OMB) for Review and Approval; Comment Request; Electronic Logbook for the Commercial Shrimp Fishery in the Gulf of Mexico

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on June 9, 2023, during a 60-day comment period. This notice allows for an additional 30 days for public comments.

Agency: National Oceanic & Atmospheric Administration (NOAA), Commerce.

Title: Electronic Logbook for the Commercial Shrimp Fishery in the Gulf of Mexico.

OMB Control Number: 0648-0543.

Form Number(s): None.

Type of Request: Regular submission—extension of a current information collection.

Number of Respondents: 610.

Average Hours per Response: 2 hours.

Total Annual Burden Hours: 1,220.

Needs and Uses: This request is for extension of a current information collection. The Magnuson-Stevens Fishery Conservation and Management Act (Magnuson-Stevens Act) authorizes the Gulf of Mexico Fishery Management Council (Council) to prepare and amend fishery management plans for any fishery in waters under its jurisdiction. NOAA's National Marine Fisheries Service (NMFS) manages the commercial shrimp fishery in Federal waters of the Gulf of Mexico (Gulf) under the Fishery Management Plan for the Shrimp Fishery of the Gulf. The electronic logbook (ELB) regulations for the Gulf shrimp fishery may be found at 50 CFR 622.51(a)(2). The ELB is a device that records the position of the vessel every ten minutes. The tracks of the vessels can be examined to determine when and where shrimp trawling is occurring.

As of May 1, 2023, there are approximately 1,319 valid or renewable Federal permits to commercially harvest shrimp from the exclusive economic zone (EEZ) in the Gulf. Monitoring shrimp vessels, operating together with many other fishing vessels of differing sizes, gears types used, and fishing capabilities, is made even more challenging by seasonal variability in shrimp abundance and price, and the broad geographic distribution of the fleet. ELBs provide a precise means of estimating the amount of shrimp fishing effort. Using ELBs to estimate fishing effort serves an important role to help estimate bycatch in the Gulf shrimp fleet.

Affected Public: Business or other for-profit organizations.

Frequency: Twice Annually (every 6 months).

Respondent's Obligation: Required to Obtain or Retain a Service or Benefit.

Legal Authority: Fishing Regulation 50 CFR 622.51(a)(2).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0543.

Sheleen Dumas,
Department PRA Clearance Officer, Office of the Under Secretary for Economic Affairs, Commerce Department.

[FR Doc. 2023-21176 Filed 9-27-23; 8:45 am]

BILLING CODE 3510-22-P